DEPARTMENT OF AGRICULTURE

Rural Utilities Service

Announcement of Grant Application Deadlines and Funding Levels

Correction

In notice document 2012-10614 appearing on pages 26241-26245 the issue of Thursday, May 3, 2012 make the following correction:

On page 26244, in the second column, in the second full paragraph, “F. Deadlines”, in the third line, “June 7, 2012” should read “June 18, 2012”.

[FR Doc. C1-2012-10614 Filed 5-7-12; 8:45 am]

BILLING CODE 1505-01-D